DEPARTMENT OF AGRICULTURE

Rural Utilities Service

7 CFR Part 1783

RIN 0572-AB95

Grant Program To Establish a Fund for Financing Water and Wastewater Projects (Revolving Fund Program (RFP))

AGENCY: Rural Utilities Service, USDA.

ACTION: Proposed rule.

SUMMARY: On May 13, 2002, the Farm Security and Rural Investment Act of 2002 (Farm Bill) was signed into law as Public Law 107-171. Section 6002 of the Farm Bill amended the Consolidated Farm and Rural Development Act (CONACT), by adding a grant program to establish a revolving loan fund. The Secretary may make grants to qualified, private, non-profit entities. The grant recipients will use the grant funds to establish a revolving loan fund. The loans will be made to eligible entities to finance pre-development costs associated with proposed water and wastewater projects or with existing water and wastewater systems, and short-term costs incurred for replacement equipment, small-scale extension of services, or other small capital projects that are not part of the regular operations and maintenance activities of existing water and wastewater systems. The Rural Utilities Service (RUS) is proposing to publish rules and regulations to establish the Grant Program to Establish a Fund for Financing Water and Wastewater Projects (Revolving Fund Program (RFP)) as authorized by the Consolidated Farm and Rural Development Act (CONACT), as amended by Section 6002 of the Farm Security and Rural Investment Act of 2002 (Farm Bill).

In the final rule section of this Federal Register, RUS is publishing this action as a direct final rule without prior proposal because RUS views this as a non-controversial action and anticipates no adverse comments. If no adverse comments are received in response to the direct final rule, no further action will be taken on this proposed rule and the action will become effective at the time specified in the direct final rule. If RUS receives adverse comments, a document will be published withdrawing the direct final rule and all public comments received will be addressed in a subsequent final rule. Any parties interested in commenting on this proposed action should do so at this time.

DATES: Comments on this proposed action must be received on or before November 5, 2004.

ADDRESSES: Submit adverse comments or notice of intent to submit adverse comments by any of the following methods:

• Federal eRulemaking Portal: Go to http://www.regulations.gov. Follow the online instruction for submitting comments.

• Agency Web site: http://www.usda.gov/rus/index2.Comments.htm. Follow the instructions for submitting comments.

• E-mail: RUSComments@usda.gov. Include in the subject line of the message “7 CFR 1783.”

• Mail: Addressed to Richard Annan, Acting Director, Program Development and Regulatory Analysis, Rural Utilities Service, United States Department of Agriculture, 1400 Independence Avenue, STOP 1522, Washington, DC 20250-1522.

• Hand Delivery/Courier: Addressed to Richard Annan, Acting Director, Program Development and Regulatory Analysis, Rural Utilities Service, United States Department of Agriculture, 1400 Independence Avenue, SW., Room 5168-S, Washington, DC 20250-1522.

FOR FURTHER INFORMATION CONTACT: Stephen Saulnier, Loan Specialist, Water Programs Division, Rural Utilities Service, U.S. Department of Agriculture, 1400 Independence Avenue, SW., Room 2235-S, Stop 1570, Washington, DC 20250-1570. Telephone (202) 690-2526. E-Mail: stephen.saulnier@usda.gov.

SUPPLEMENTARY INFORMATION: See the SUPPLEMENTARY INFORMATION provided in the direct final rule located in the final rule section of this Federal Register for the applicable supplementary information on this action.

Dated: September 2, 2004.
Curtis M. Anderson,
Acting Administrator, Rural Utilities Service.

[FR Doc. 04-22445 Filed 10-5-04; 8:45 am]

BILLING CODE 3410-15-P